DEPARTMENT OF AGRICULTURE

Agricultural Marketing Service

[Docket # AMS-FV-2006-0205; FV-06-317]

United States Standards for Grades of Cantaloups

AGENCY: Agricultural Marketing Service, USDA.

ACTION: Notice.

SUMMARY: The Agricultural Marketing Service (AMS) is revising the voluntary United States Standards for Grades of Cantaloups. Specifically, AMS is revising the “Application of Tolerances” section in the cantaloup standards. Additionally, AMS is removing the “Unclassified” category from the standards. These changes will bring the standards for cantaloups in line with current marketing practices, thereby improving the usefulness of the standards in serving the industry.

EFFECTIVE DATE: March 10, 2008.

FOR FURTHER INFORMATION CONTACT: Vincent J. Fusaro, Standardization Section, Fresh Products Branch, (202) 720-2185. The revised United States Standards for Grades of Cantaloups are available by accessing the Fresh Products Branch Web site at: http://www.ams.usda.gov/standards/stanfrfv.htm.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities. AMS makes copies of official standards available upon request. The United States Standards for Grades of Fruits and Vegetables not connected with Federal Marketing Orders or U.S. Import Requirements no longer appear in the Code of Federal Regulations, but are maintained by USDA, AMS, Fruit and Vegetable Programs.

AMS is revising the United States Standards for Grades of Cantaloups using the procedures that appear in Part 36, Title 7 of the Code of Federal Regulations (7 CFR part 36). These standards were last revised June 30, 1968.

Background

Prior to undertaking detailed work to develop a proposed revision to the standards, AMS published a notice on December 28, 2006, in the Federal Register (71 FR 78128) soliciting comments on possible revisions of the United States Standards for Grades of Cantaloups. One supporting comment was received from a national trade association representing independent wholesale receivers. The commenter stated their members were in favor of the proposed revisions to the “Application of Tolerances” section. Based on this supportive comment, a second notice was published on July 25, 2007, in the Federal Register (72 FR 40825) proposing to revise the standards to allow changes to section 51.480, which permitted applying tolerances to: either samples of the entire contents of melons in cartons or to samples consisting of at least twenty five melons for cantaloups packed in bulk bins or other packaging. Specifically within the section, “The contents of individual packages * * *” will be modified to “Samples * * *” and “(a) A package may contain * * *” will be modified to “(a) Samples may contain * * *”. The notice also proposed eliminating the “Unclassified” category. No additional comments were received.

Based on the one initial comment received and information gathered, AMS is revising the grade standards for cantaloups to include these revisions.

The official grades of cantaloups covered by these standards are determined by the procedures set forth in the Regulations Governing Inspection, Certification, and Standards of Fresh Fruits, Vegetables and Other Products (7 CFR 51.1 to 51.62).

The revised United States Standards for Grades of Cantaloups will become effective 30 days after publication in the Federal Register.

Authority: 7 U.S.C. 1621-1627.

Dated: February 1, 2008.
Lloyd C. Day,
Administrator, Agricultural Marketing Service.

[FR Doc. E8-2197 Filed 2-6-08; 8:45 am]

BILLING CODE 3410-02-P